NATIONAL COUNCIL ON DISABILITY

Sunshine Act Meetings

TIME AND DATE: The Members of the National Council on Disability (NCD) will hold a quarterly business meeting on Thursday, February 16, 2023, 12:00 p.m.-4:00 p.m., Eastern Standard Time (EST).

PLACE: This meeting will occur via Zoom videoconference. Registration is not required. Interested parties are encouraged to join the meeting in an attendee status by Zoom Desktop Client, Mobile App, or Telephone to dial-in. Updated information is available on NCD's event page at https://ncd.gov/events/2023/upcoming-council-meeting. To join the Zoom webinar, please use the following URL: https://us06web.zoom.us/j/88529259772?pwd=T2ZSeC95MVp1OCtmSmRBNmc2RElDQT09 or enter Webinar ID: 885 2925 9772 in the Zoom app. The Passcode is: 580072. To join the Council Meeting by telephone, dial one of the preferred numbers listed. The following numbers are (for higher quality, dial a number based on your current location): (669) 900-6833; (408) 638-0968; (312) 626-6799; (346) 248-7799; (253) 215-8782; (646) 876-9923; or (301) 715-8592. You will be prompted to enter the meeting ID 885 2925 9772 and passcode 580072. International numbers are also available: https://us06web.zoom.us/u/km8Lg6OlA.

In the event of audio disruption or failure, attendees can follow the meeting by accessing the Communication Access Realtime Translation (CART) link provided. CART is text-only translation that occurs real time during the meeting and is not an exact transcript.

MATTERS TO BE CONSIDERED: Following welcome remarks and introductions, the Chairman, Executive Director and Executive Committee and will provide reports; followed by an internal administrative training for the Council; an update on open policy projects; a break; presentations, discussion and voting on policy projects for FY2024; and public comment on the FY2024 Progress Report, before adjourning.

Agenda: The times provided below are approximations for when each agenda item is anticipated to be discussed (all times Eastern Standard Time):

Thursday, February 16, 2023

12:00-12:10 p.m.—Welcome and Call to Order

12:10-12:20 p.m.—Chairman's Report

12:20-12:30 p.m.—Executive Director's Report

12:30-12:45 p.m.—Executive Committee Report

12:45-1:15 p.m.—Internal Administrative Training

1:15-1:45 p.m.—Policy Subcommittee Updates

1:45-1:55 p.m.—Break

1:55-3:30 p.m.—Policy Project Proposals—Presentations, Discussion, Vote

3:30-4:00 p.m.—Public Comment

4:00 p.m.—Adjourn

Public Comment: Your participation during the public comment period provides an opportunity for us to hear from you—individuals, businesses, providers, educators, parents and advocates. Your comments are important in bringing to the Council's attention issues and priorities of the disability community.

For the Feb. 16 Council meeting, NCD requests comments from the public regarding areas of priority focus for the Council's Fiscal Year 2024 Progress Report, which is NCD's statutorily required report to Congress about the status of people with disabilities in the U.S. The report for which NCD is requesting comment will be researched and written in Fiscal Year 2024 and released in October 2024.

Because of the virtual setting, there will be a hybrid option for submitting public comment. The Council is soliciting public comment by email or via video or audio over Zoom. Emailed public comment submissions will be reviewed during the meeting and delivered to members of the Council at its conclusion. You can also present public comment during the session by clicking the “Hand Raise” button in Zoom and waiting to be called on. If you plan to present over Zoom, please provide advance notice. To provide comments or notice to present public comment, please send an email to PublicComment@ncd.gov with the subject line “Public Comment” and your name, organization, state, and topic of comment included in the body of your email. Submission should be received no later than Feb. 15, 5 p.m. EDT to ensure inclusion.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please notify Netterie Lewis by sending an email to nlewis@ncd.gov as soon as possible.

Due to last-minute confirmations or cancellations, NCD may substitute items without advance public notice.

Dated: January 27, 2023.
Anne C. Sommers McIntosh,
Executive Director.

[FR Doc. 2023-02133 Filed 1-27-23; 4:15 pm]

BILLING CODE 8421-02-P